DEPARTMENT OF ENERGY

[OE Docket No. EA-182-E]

Application To Export Electric Energy; H.Q. Energy Services (U.S) Inc.

AGENCY: Office of Electricity, Department of Energy.

ACTION: Notice of application.

SUMMARY: H.Q. Energy Services (U.S.) Inc. (Applicant or HQUS) has applied for authorization to transmit electric energy from the United States to Canada pursuant to the Federal Power Act.

DATES: Comments, protests, or motions to intervene must be submitted on or before July 8, 2020.

ADDRESSES: Comments, protests, motions to intervene, or requests for more information should be addressed by electronic mail to Electricity.Exports@hq.doe.gov, or by facsimile to (202) 586-8008.

SUPPLEMENTARY INFORMATION: The Department of Energy (DOE) regulates exports of electricity from the United States to a foreign country, pursuant to sections 301(b) and 402(f) of the Department of Energy Organization Act (42 U.S.C. 7151(b) and 42 U.S.C. 7172(f)). Such exports require authorization under section 202(e) of the Federal Power Act (16 U.S.C. 824a(e)).

On August 18, 2015, DOE issued Order No. EA-182-D, which authorized HQUS to transmit electric energy from the United States to Canada as a power marketer for a five-year term using existing international transmission facilities appropriate for open access. This authorization expires on August 21, 2020. On June 1, 2020, HQUS filed an application (Application or App.) with DOE for renewal of the export authorization contained in Order No. EA-182-D.

HQUS says its principal place of business is in Hartford, Connecticut, and that it “is a wholly-owned subsidiary and the marketing arm of Hydro-Quebec Production, a division of Hydro-Quebec.” See App. at 1. HQUS adds that it “does not own or operate any facilities for the generation, transmission or distribution of electricity in the United States or any other country, and neither HQUS nor any of its affiliates has a franchise or service territory for the transmission, distribution or sale of electricity in the United States.” Id. at 2.

HQUS further states that it “will purchase the power to be exported from a variety of sources such as power marketers, independent power producers or U.S. electric utilities and Federal power marketing agencies.” App. at 3. HQUS contends that its proposed exports “will not impair the sufficiency of the electric power supply within the United States.” Id.

The existing international transmission facilities to be utilized by the Applicant have previously been authorized by Presidential permits issued pursuant to Executive Order 10485, as amended, and are appropriate for open access transmission by third parties.

Procedural Matters: Any person desiring to be heard in this proceeding should file a comment or protest to the Application at the address provided above. Protests should be filed in accordance with Rule 211 of the Federal Energy Regulatory Commission's (FERC) Rules of Practice and Procedure (18 CFR 385.211). Any person desiring to become a party to this proceeding should file a motion to intervene at the above address in accordance with FERC Rule 214 (18 CFR 385.214).

Comments and other filings concerning HQUS's Application should be clearly marked with OE Docket No. EA-182-E. Additional copies are to be provided directly to Hélène Cossette, 4th Floor, 75, boul. René-Lévesque Ouest, Montréal, Québec H2Z 1A4, Canada, Cossette.Helene@hydro.qc.ca; and Jerry L. Pfeffer, 1440 New York Avenue, NW, Washington, DC 20005, jerry.pfeffer@skadden.com.

A final decision will be made on this Application after the environmental impacts have been evaluated pursuant to DOE's National Environmental Policy Act Implementing Procedures (10 CFR part 1021) and after DOE determines that the proposed action will not have an adverse impact on the sufficiency of supply or reliability of the U.S. electric power supply system.

Copies of this Application will be made available, upon request, by accessing the program website at http://energy.gov/node/11845, or by emailing Matthew Aronoff at matthew.aronoff@hq.doe.gov.

Signed in Washington, DC, on June 2, 2020.
Christopher Lawrence,
Management and Program Analyst, Transmission Permitting and Technical Assistance, Office of Electricity.

[FR Doc. 2020-12311 Filed 6-5-20; 8:45 am]

BILLING CODE 6450-01-P